SOCIAL SECURITY ADMINISTRATION

20 CFR Parts 404, 405, and 416

[Docket No. SSA-2007-0053]

Compassionate Allowances for Autoimmune Disease, Office of the Commissioner; Hearing

AGENCY: Social Security Administration.

ACTION: Announcement of public hearing.

SUMMARY: We developed “Compassionate Allowances” to provide benefits quickly to applicants whose medical conditions obviously meet the definition of disability under the Social Security Act (Act) and can be identified with minimal objective medical information. In December 2007, April 2008, November 2008, July 2009, November 2009, and November 2010, we held Compassionate Allowance public hearings to help us identify the diseases and other serious medical conditions that we should consider under the Compassionate Allowance process. These hearings concerned rare diseases, cancers, traumatic brain injury and stroke, early-onset Alzheimer's disease and related dementias, schizophrenia, and cardiovascular disease and multiple organ transplants, respectively. We will hold our next hearing on March 16 to address the advisability and possible methods of identifying and implementing compassionate allowances for both adults and children with autoimmune diseases. While the public is welcome to attend the hearing, only scheduled witnesses will present testimony. We plan to address other medical conditions at subsequent hearings.

DATES: This hearing will be held on March 16, 2011, between 8:30 a.m. and 5 p.m., Eastern Standard Time (EST), in Baltimore, Maryland. The hearing will be held at the Sheraton Baltimore City Center Hotel in the International Ballroom. The hotel's address is 101 West Fayette St., Baltimore, MD 21201-3703. You may also watch the proceedings live via Webcast beginning at 9 a.m., Eastern Standard Time (EST). You may access the Webcast line for the hearing on the Social Security Administration Web site at http://www.socialsecurity.gov/compassionateallowances/.

ADDRESSES: You may submit written comments about the compassionate allowances initiative with respect to adults and children with autoimmune diseases, as well as topics covered at the hearing by:

• E-mail addressed to Compassionate.Allowances@ssa.gov; or

• Mail to Jamillah Jackson, Deputy Director, Office of Compassionate Allowances and Disability Outreach, ODP, ORDP, Social Security Administration, 4671 Annex Building, 6401 Security Boulevard, Baltimore, Maryland 21235-6401. We welcome your comments, but we may not respond directly to comments sent in response to this notice of hearing.

FOR FURTHER INFORMATION CONTACT: Compassionate.Allowances@ssa.gov. You may also mail inquiries about this hearing to Jamillah Jackson, Deputy Director, Office of Compassionate Allowances and Disability Outreach, ODP, ORDP, Social Security Administration, 4671 Annex Building, 6401 Security Boulevard, Baltimore, Maryland 21235-6401. For information on eligibility or filing for benefits, call our national toll-free number 1-800-772-1213 or TTY 1-800-325-0778, or visit Social Security online, at http://www.socialsecurity.gov.

SUPPLEMENTARY INFORMATION:

Background

Under the disability programs in titles II and XVI of the Act, we pay benefits to individuals who meet our rules for entitlement and have medically determinable physical or mental impairments that are severe enough to meet the statutory definition of disability. The rules for determining disability can be very complicated, but some individuals have such serious medical conditions that their conditions obviously meet our disability standards with minimal objective medical evidence alone. To better address the needs of these individuals, we are looking into ways to allow benefits as quickly as possible based on minimal objective medical information.

Will we respond to your comments?

We will carefully consider your comments, although we will not respond directly to comments sent in response to this notice or the hearing.

Additional Hearings

You may access the transcripts of our prior hearings at http://www.socialsecurity.gov/compassionateallowances/. We plan to hold additional hearings on other conditions and will announce those hearings with notices in the Federal Register.

(Catalog of Federal Domestic Assistance Programs Nos. 96.001, Social Security—Disability Insurance; 96.006, Supplemental Security Income.)

Dated: March 3, 2011.
Michael J. Astrue,
Commissioner of Social Security.

[FR Doc. 2011-5464 Filed 3-9-11; 8:45 am]

BILLING CODE 4191-02-P